DEPARTMENT OF THE INTERIOR

National Park Service

[NPS-WASO-NAGPRA-NPS0037279; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice. The human remains and associated funerary objects were removed from Solano County, CA.

DATES: Repatriation of the human remains and associated funerary objects in this notice may occur on or after February 26, 2024.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis. The National Park Service is not responsible for the determinations in this notice. Additional information on the determinations in this notice, including the results of consultation, can be found in the inventory or related records held by UC Davis.

Description

Human remains representing, at minimum, two individuals were removed from Solano County, CA. In 1973, CA-SOL-271 was excavated by Helen Clough as part of a UC Davis Field School (UC Davis Accession 66). In 1999, the same site was excavated again by UC Davis Anthropology Graduate Student, Eric Wohlgemuth (UC Davis Accession 537). There are 1,330 lots of associated funerary objects. Of that number, 1,316 funerary objects have been located and 14 objects are currently missing. UC Davis continues to look for the missing associated funerary objects. The 1,316 located funerary objects are three lots consisting of worked shell (including beads and pendants); 28 lots consisting of worked bone (awls, whistles, and other worked bone); five lots consisting of stone beads; 115 lots consisting of projectile points, bifaces, and other chipped stone; 132 lots consisting of groundstone; 333 lots consisting of debitage; 162 lots consisting of worked stone; 19 lots consisting of baked clay/ceramics; 320 lots consisting of unmodified animal bone; 94 lots consisting of unmodified shell; 23 lots consisting of charcoal, ash, and ochre; five lots consisting of mixed bone, shell and seeds; 18 lots consisting of plant material (seeds, nuts, acorn caps); and 59 lots consisting of flotations, fire affected rock, soil, and unmodified stone. The 14 currently missing associated funerary objects are one lot consisting of worked shell; one lot consisting of worked bone; four projectile points; one lot consisting of debitage; one lot consisting of worked stone; three lots consisting of unmodified animal bone; one lot consisting of unmodified shell; and one lot consisting of unmodified stone; and one lot consisting of unknown material.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, linguistics, and oral tradition.

Determinations

Pursuant to NAGPRA and its implementing regulations, and after consultation with the appropriate Indian Tribes and Native Hawaiian organizations, UC Davis has determined that:

• The human remains described in this notice represent the physical remains of two individuals of Native American ancestry.

• The 1,330 objects described in this notice are reasonably believed to have been placed with or near individual human remains at the time of death or later as part of the death rite or ceremony.

• There is a relationship of shared group identity that can be reasonably traced between the human remains and associated funerary objects described in this notice and the Cachil DeHe Band of Wintun Indians of the Colusa Indian Community of the Colusa Rancheria, California; Kletsel Dehe Wintun Nation of the Cortina Rancheria (Previously listed as Kletsel Dehe Band of Wintun Indians); and the Yocha Dehe Wintun Nation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 26, 2024. If competing requests for repatriation are received, UC Davis must determine the most appropriate requestor prior to repatriation. Requests for joint repatriation of the human remains and associated funerary objects are considered a single request and not competing requests. UC Davis is responsible for sending a copy of this notice to the Indian Tribes identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: January 18, 2024.
Melanie O'Brien,
Manager, National NAGPRA Program.

[FR Doc. 2024-01536 Filed 1-25-24; 8:45 am]

BILLING CODE 4312-52-P